FEDERAL COMMUNICATIONS COMMISSION

47 CFR Part 73

[DA 07-3246, MB Docket No. 04-265, RM-10439]

Digital Television Broadcast Service; Seattle, WA

AGENCY: Federal Communications Commission.

ACTION: Proposed rule, denial.

SUMMARY: The Commission, by this document, denies a petition for rule making filed by KCTS Television, requesting the substitution of DTV channel *53 for channel *62 on the basis that the proposal to add DTV channel *53 at Seattle failed to protect DTV channel 53 at Chilliwack, British Columbia. See 69 FR 46128, August 2, 2004. With this action, this proceeding is terminated.

FOR FURTHER INFORMATION CONTACT: Pam Blumenthal, Media Bureau, (202) 418-1600.

SUPPLEMENTARY INFORMATION: This is a synopsis of the Commission's Report and Order, MB Docket No. 04-265, adopted July 13, 2007, and released July 18, 2007. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com. This document is not subject to the Congressional Review Act. (The Commission is, therefore, not required to submit a copy of this Report and Order to GAO, pursuant to the Congressional Review Act, see 5 U.S.C. 801(a)(1)(A), because this proposed rule is denied.)

Federal Communications Commission.
Barbara A. Kreisman,
Chief, Video Division, Media Bureau.

[FR Doc. E7-14378 Filed 7-24-07; 8:45 am]

BILLING CODE 6712-01-P